DEPARTMENT OF HEALTH AND HUMAN SERVICES

National Institutes of Health

National Institute of Dental & Craniofacial Research; Notice of Meeting

Pursuant to section 1009 of the Federal Advisory Committee Act, as amended, notice is hereby given of a meeting of the National Advisory Dental and Craniofacial Research Council.

The meeting will be held as a virtual meeting and is partially open to the public as indicated below. Individuals who plan to view the virtual meeting and need special assistance to view the meeting, such as sign language interpretation or other reasonable accommodations, should notify the Contact Person listed below or use the Federal Relay, 1-800-877-8339, in advance of the meeting. The open session will be videocast and can be accessed from the NIH Videocasting website (http://videocast.nih.gov/). Registration is not required to access the videocast.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Advisory Dental and Craniofacial Research Council.

Date: September 10, 2025.

Open: 12:00 p.m. to 2:30 p.m.

Agenda: Report of the Director, NIDCR and concept clearances.

Address: National Institute of Dental and Craniofacial Research, 31 Center Drive, Bethesda, MD 20892 (Virtual Meeting).

Closed: 2:45 p.m. to 4:00 p.m.

Agenda: To review and evaluate grant applications.

Address: National Institute of Dental and Craniofacial Research, 31 Center Drive, Bethesda, MD 20892 (Virtual Meeting).

Contact Person: Sanoj Suneja, Ph.D., Acting Director, Division of Extramural Activities, National Institute of Dental and Craniofacial Research, National Institutes of Health, 31 Center Drive, Bethesda, MD 20892, 301-402-7710, Sanoj.Suneja@nih.gov.

Any interested person may file written comments with the committee by forwarding the statement to the Contact Person listed on this notice. The statement should include the name, address, telephone number and when applicable, the business or professional affiliation of the interested person.

Information is also available on the Institute's/Center's home page: https://www.nidcr.nih.gov/about-us/advisory-committees/advisory-council, where an agenda and any additional information for the meeting will be posted when available.

(Catalogue of Federal Domestic Assistance Program No. 93.121, Oral Diseases and Disorders Research, National Institutes of Health, HHS)

Dated: July 24, 2025.
Bruce A. George,
Program Analyst, Office of Federal Advisory Committee Policy.

[FR Doc. 2025-14240 Filed 7-28-25; 8:45 am]

BILLING CODE 4140-01-P